DEPARTMENT OF THE INTERIOR

Bureau of Land Management

[18X LLWO600000.L18200000. XP0000]

National Call for Nominations for Resource Advisory Councils

AGENCY: Bureau of Land Management, Interior.

ACTION: Notice of call for nominations.

SUMMARY: The purpose of this notice is to request public nominations for 13 of the Bureau of Land Management's (BLM) statewide and regional Resource Advisory Councils (RAC) that have vacant positions or members whose terms are scheduled to expire. These RACs provide advice and recommendations to the BLM on land use planning and management of the National System of Public Lands within their geographic areas.

DATES: All nominations must be received no later than November 4, 2022.

ADDRESSES: Nominations and completed applications should be sent to the appropriate BLM offices listed in the SUPPLEMENTARY INFORMATION section of this notice.

FOR FURTHER INFORMATION CONTACT: Carrie Richardson, BLM Office of Communications, at (202) 742-0649 or crichardson@blm.gov. crichardson@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Federal Land Policy and Management Act (FLPMA) directs the Secretary of the Interior to involve the public in planning and addressing issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR 1784. The RACs include the following three membership categories:

Category One—Holders of Federal grazing permits or leases within the area for which the RAC is organized; represent interests associated with transportation or rights-of-way; represent developed outdoor recreation, off-highway vehicle users, or commercial recreation activities; represent the commercial timber industry; or represent energy and mineral development.

Category Two—Representatives of nationally or regionally recognized environmental organizations; dispersed recreational activities; archaeological and historical interests; or nationally or regionally recognized wild horse and burro interest groups.

Category Three—Hold State, county, or local elected office; are employed by a State agency responsible for the management of natural resources, land, or water; represent Indian Tribes within or adjacent to the area for which the RAC is organized; are employed as academicians in natural resource management or the natural sciences; or represent the affected public at large.

Individuals may nominate themselves or others. Nominees must be residents of the State in which the RAC has jurisdiction. The BLM will evaluate nominees based on their education, training, experience, and knowledge of the geographic area of the RAC. Nominees should demonstrate a commitment to collaborative resource decision-making.

The following must accompany all nominations:

—A completed RAC application, which can either be obtained through your local BLM office or online at: https://www.blm.gov/sites/blm.gov/files/1120-019_0.pdf.

—Letters of reference from represented interests or organizations; and

—Any other information that addresses the nominee's qualifications.

Simultaneous with this notice, BLM State Offices will issue press releases providing additional information for submitting nominations.

Before including any address, phone number, email address, or other personal identifying information in the application, nominees should be aware this information may be made publicly available at any time. While the nominee can ask to withhold the personal identifying information from public review, the BLM cannot guarantee that it will be able to do so.

Nominations and completed applications for RACs should be sent to the appropriate BLM offices listed below:

Alaska

Alaska RAC

Melinda Bolton, BLM Alaska State Office, 222 W 7th Avenue #13, Anchorage, AK 99513; Phone: (907) 271-3342; Email: mbolton@blm.gov.

Arizona

Arizona RAC

Dolores Garcia, BLM Arizona State Office, 1 North Central Avenue, Suite 800, Phoenix, AZ 85004; Phone: (602) 417-9241; Email: dagarcia@blm.gov.

California

Northern California District RAC

Jeff Fontana, BLM Eagle Lake Field Office, 2550 Riverside Drive, Susanville, CA 96130; Phone: (530) 252-5332; Email: jfontana@blm.gov.

Colorado

Northwest RAC

Eric Coulter, BLM Upper Colorado River District Office, 2815 H Road, Grand Junction, CO 81056; Phone (970) 244-3000; Email: ecoulter@blm.gov.

Rocky Mountain RAC

Cathy Cook, BLM Rocky Mountain District Office, 3028 East Main Street, Cañon City, CO 81212; Phone: (719) 269-8554; Email: ccook@blm.gov.

Southwest RAC

Shawn Reinhardt, BLM Southwest Colorado District Office, 2465 South Townsend Avenue, Montrose, CO 81401; Phone (970) 240-5430; Email: sreinhardt@blm.gov.

Idaho

Idaho RAC

MJ Byrne, BLM Idaho State Office, 1387 South Vinnell Way, Boise, Idaho 83709; Phone (208) 373-4006; Email: mbyrne@blm.gov.

Montana and Dakotas

Missouri Basin RAC

Mark Jacobsen, BLM Eastern Montana/Dakotas District, 111 Garryowen Road, Miles City, MT 59301; Phone: (406) 233-2831; Email: mjacobse@blm.gov.

Nevada

Mojave-Southern Great Basin RAC

Kirsten Cannon, BLM Southern Nevada District Office, 4701 North Torrey Pines, Las Vegas, NV 89130; Phone: (702) 515-5057; Email: k1cannon@blm.gov.

Oregon/Washington

Eastern Washington RAC

Jeff Clark, BLM Spokane District Office, 1103 North Fancher Road, Spokane, WA 99212; Phone: (509) 536-1297.

John Day-Snake RAC

Kaitlyn Webb, Public Affairs Officer, BLM Prineville District Office, 3050 NE 3rd Street, Prineville, OR 97754; Phone: (541) 460-8781; Email: kwebb@blm.gov.

Southeast Oregon RAC

Larisa Bogardus, Public Affairs Officer, BLM Vale District Office, 3100 H St., Baker City, OR 97814; Phone: (541) 523-1407; Email: lbogardus@blm.gov.

Wyoming

Wyoming RAC

Azure Hall, BLM Wyoming State Office, 5353 Yellowstone Road, Cheyenne, WY 82009; Phone: (307) 335-6208; Email: ahall@blm.gov.

(Authority: 43 CFR 1784.4-1)

Jeffrey Krauss,
Acting Assistant Director for Communications.

[FR Doc. 2022-21568 Filed 10-4-22; 8:45 am]

BILLING CODE 4310-84-P